DEPARTMENT OF EDUCATION

Grants to States To Improve Management of Drug and Violence Prevention Programs

AGENCY: Office of Safe and Drug-Free Schools, Department of Education.

ACTION: Notice of proposed priorities and requirements.

SUMMARY: The Assistant Deputy Secretary for Safe and Drug-Free Schools proposes priorities and requirements under the Safe and Drug-Free Schools and Communities Act (SDFSCA) National Programs for the Grants to States to Improve Management of Drug and Violence Prevention Programs. We may use one or more of these priorities and requirements for competitions in fiscal year (FY) 2005 and later years. We take this action to focus Federal financial assistance on an identified national need. We intend the priorities and requirements to facilitate the development, enhancement, or expansion of the capacity of States and other entities that receive SDFSCA State Grants program funds to collect, analyze, and use data to improve the management of drug and violence prevention programs.

DATES: We must receive your comments on or before April 8, 2005.

ADDRESSES: Address all comments about these proposed priorities and requirements to: Deborah Rudy, U.S. Department of Education, 400 Maryland Avenue, SW., room 3E330, Washington, DC 20202-6450. If you prefer to send your comments through the Internet, use the following address: Deborah.Rudy@ed.gov.

You must include the term “184R Comments” in the subject line of your electronic message.

FOR FURTHER INFORMATION CONTACT: Deborah Rudy, Telephone: (202) 260-1875 or via Internet: Deborah.Rudy@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION

Invitation to Comment

We invite you to submit comments regarding these proposed priorities and requirements. To ensure that your comments have maximum effect in developing the notice of final priorities and requirements, we urge you to identify clearly the specific proposed priority or requirement that each comment addresses.

We invite you to assist us in complying with the specific requirements of Executive Order 12866 and its overall requirement of reducing regulatory burden that might result from these proposed priorities and requirements. Please let us know of any further opportunities we should take to reduce potential costs or increase potential benefits while preserving the effective and efficient administration of the program.

During and after the comment period, you may inspect all public comments about these proposed priorities and requirements in room 3E330, 400 Maryland Avenue, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities and requirements. If you want to schedule an appointment for this type of aid, please contact the person listed under FOR FURTHER INFORMATION CONTACT.

Proposed Priorities and Requirements

We will announce the final priorities and requirements in a notice in the Federal Register. We will determine the final priorities and requirements after considering responses to this notice and other information available to the Department. This notice does not preclude us from proposing or funding additional priorities or requirements subject to meeting applicable rulemaking requirements.

Note: This notice does not solicit applications. In any year in which we choose to use one or more of these proposed priorities or requirements, we invite applications through a notice in the Federal Register. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Proposed Priorities

Proposed Absolute Priority-Developing, Enhancing, or Expanding the Capacity of States and Other Entities that Receive SDFSCA State Grants Funds to Collect, Analyze, and use Data to Improve the Quality of Drug and Violence Prevention Programs

Background: States and their local communities are implementing a variety of programs, activities, and strategies designed to prevent youth drug use and violence in schools. Just as policymakers, education professionals, and parents seek reliable information about student academic progress, stakeholders also need sufficient information and data to assess the nature of youth drug and violence problems in their communities, select research-based approaches to preventing these problems, and determine whether these prevention efforts are effective.

The U.S. Department of Education currently requires States to collect and report data on youth drug and violence prevention problems and prevention efforts through a uniform management information and reporting system (UMIRS) that States must establish under section 4112(c)(3) of the Elementary and Secondary Education Act of 1965, as amended by the No Child Left Behind Act of 2001 (ESEA) (20 U.S.C. 7112(c)(3)). States also need to use objective data about school safety to meet the Unsafe School Choice Option (USCO) requirements in section 9532 of the ESEA.

States and local communities face several challenges in implementing these requirements and in turn operating and managing effective drug and violence prevention programs. These challenges may include:

• Lack of standardized collection instruments and definitions both within and across States;

• Lack of expertise related to collecting data about youth drug use and violence;

• Lack of time and other resources to support high-quality data collection and analysis in these areas;

• Unfavorable community and media reaction to high rates of youth drug use and violence that discourages full and accurate reporting; and

• Negative consequences for administrators whose schools have high rates of violent incidents.

The Department is proposing this priority therefore to provide support to States to explore strategies that will help them address these challenges so that they can enhance their capacity to collect and use data to assess and improve the implementation of their drug and violence prevention programs.

Absolute Priority: This priority would support projects to develop, enhance, or expand the capacity of States and other entities that receive SDFSCA State Grants program funds to collect, analyze, and use data to improve the management of drug and violence prevention programs. At a minimum, applicants must propose projects to develop, enhance, or expand the capacity of the State educational agency (SEA), the State agency administering the Governor's funding under the SDFSCA State Grants program, and local educational agencies and community-based organizations that receive SDFSCA State Grants program funding.

Specifically, projects must be designed to:

(a) Include activities designed to expand the capacity of local recipients of SDFSCA funds to use data to assess needs, establish performance measures, select appropriate interventions, monitor progress toward established performance measures, and disseminate information about youth drug use and violence to the public;

(b) Collect data that, at a minimum, meet the requirements of the UMIRS described in section 4112(c)(3) of the ESEA;

(c) Operate with the aid of a technology-based system for analyzing and interpreting school crime and violence data;

(d) Be consistent with the State's Performance-Based Data Management Initiative (PBDMI) strategy and produce data that can be transmitted to the U.S. Department of Education via the Department's Education Data Exchange Network (EDEN) project, which facilitates the transfer of information from State administrative records to the Department to satisfy reporting requirements for certain programs administered by the Department, including the SDFSCA State Grants program;

(e) Be an enhancement to, or capable of merging data with, the State's student information system if such exists or if the State does not yet have a statewide, longitudinal student data system, the project should include the capacity to merge with such a system in the future; and

(f) Include validation and verification activities at the State and sub-State recipient levels designed to ensure the accuracy of data collected and reported.

Proposed Competitive Preference Priority—Use of Uniform Crime Reporting Definitions

Background: Uniform definitions of data elements make it easier for stakeholders to collect, analyze, and compare data across district, county, State, and other boundaries. The Federal Bureau of Investigation's Uniform Crime Reporting (UCR) program is the most universal crime reporting system in the country and collects information about the following crimes: Homicide; forcible rape; robbery; aggravated assault; burglary; larceny-theft; motor vehicle theft; and arson. The majority of States have a UCR program and many require mandatory reporting. Further information about the UCR is available online at http://www.fbi.gov/ucr/ucr.htm.

Competitive Preference Priority: The collection of incident data for projects under Priority 1 will be done in a manner consistent with the definitions and protocols developed under the Federal Bureau of Investigation's UCR program.

Other Proposed Requirements

Eligibility of Applicants: We propose that eligible applicants for this program be limited to State educational agencies (SEAs) or other State agencies administering the SDFSCA State Grants program.

We propose this requirement to focus projects on Statewide systems of data collection that support the UMIRS requirements. Local or regional projects are inconsistent with the emphasis in the SDFSCA on Statewide data collection systems for youth drug and violence prevention information.

Memorandum of Understanding: We propose that applicants be required to include a memorandum of understanding (MOU) in their application that outlines project roles and responsibilities of the participants and that contains:

1. The signatures of:

a. The authorized representative(s) for the SEA, and

b. The authorized representative(s) for the State agency (or agencies) receiving the Governor's portion of SDFSCA State Grants program funding for the State.

2. Evidence that the proposal has been reviewed by, and has the approval of, the State's chief information officer (CIO) and/or chief technology officer (CTO). The CIO and/or CTO may sign the required memorandum of understanding, or may provide a separate document including the required assurance.

We propose this requirement in order to ensure that entities responsible for the development of the UMIRS within a State will be involved in the design and implementation of any funded project, and that technical aspects of the project have the approval of the State official charged with overseeing information management and technology issues within the State.

Technology-Based System: We propose that each application be required to include a proposal for a technology-based system for collecting, analyzing, and interpreting school crime and violence data. Grant funds may be used in a variety of ways to support this system, including updating an existing infrastructure, conducting basic planning, and capacity building.

We propose this requirement to ensure that grant funds are used to support the development of a system that takes advantage of widely available technology to support the efficient collection, analysis and interpretation of school crime and violence data.

Executive Order 12866

This notice of proposed priorities and requirements has been reviewed in accordance with Executive Order 12866. Under the terms of the order, we have assessed the potential costs and benefits of this regulatory action.

The potential costs associated with the notice of proposed priorities and requirements are those resulting from statutory requirements and those we have determined as necessary for administering this program effectively and efficiently.

In assessing the potential costs and benefits—both quantitative and qualitative—of this notice of proposed priorities and requirements, we have determined that the benefits of the proposed priorities justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document: You may view this document, as well as all other documents of this Department published in the Federal Register, in text or Adobe Portable Document Format (PDF) on the Internet at the following site: http://www.ed.gov/news/FedRegister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/dvpstatemanagement/applicant.html.

Note: The official version of this document is the document published in the Federal Register. Free Internet access to the official edition of the Federal Register and the Code of Federal Regulations is available on GPO Access at: http://www.gpoaccess.gov/nara/index.html.

Dated: March 4, 2005.
(Catalog of Federal Domestic Assistance Number 84.184R Grants to States to Improve Management of Drug and Violence Prevention Programs.)
Program Authority: 20 U.S.C. 7131.
Deborah A. Price,
Assistant Deputy Secretary for Safe and Drug-Free Schools.

[FR Doc. 05-4616 Filed 3-8-05; 8:45 am]

BILLING CODE 4001-01-P